DEPARTMENT OF LABOR

Employment and Training Administration

[TA-W-60,055]

Swift Textiles, d/b/a/ Swift Galey, Midland, GA; Notice of Revised Determination on Reconsideration

By letter dated November 6, 2006, the subject company requested administrative reconsideration regarding the Department's Negative Determination Regarding Eligibility to Apply for Worker Adjustment Assistance, applicable to the workers of the subject firm. The denial was issued on October 17, 2006. The Department's Notice of determination was published in the Federal Register on November 6, 2006 (71 FR 65004). Workers produce denim fabric.

The denial was based on the Department's findings that the denim fabric is exported, there was no shift of production of fabric abroad, and the subject firm did not import denim fabric.

The request for reconsideration, dated November 6, 2006, states that the subject firm will be closing at the end of 2006 and alleges that the closure is due to increased imports.

During the reconsideration investigation, the Department was informed that the denim yarn produced at Swift Galey, Columbus, Georgia (TA-W-59,234; certified May 22, 2006 based on import impact from Mexico) was sent to Swift Galey, Midland, Georgia to be finished into denim fabric.

Based on this new information, the Department has determined that the subject firm is a downstream producer to Swift Galey, Columbus, Georgia and conducted an investigation to determine whether the subject workers are eligible to apply for Trade Adjustment Assistance (TAA) as workers of a secondarily-affected firm (a firm that either supplied component parts for articles produced by a firm with a currently TAA-certified worker group or assembled/finished articles provided by a firm with a currently TAA-certified worker group).

In order for the subject workers to be certified on a secondarily-affected basis, the following criteria must be met: (1) A significant number or proportion of the subject firm separated or threatened with separations and (2) the subject firm is a supplier or a downstream producer to a firm or subdivision that employed a TAA-certified worker group and such supply or production is related to the article that was the basis for the certification. In the case of downstream producers, the primary certification must be based on a shift of production to Canada or Mexico or import impact from Canada or Mexico.

Based on previously-submitted information and information obtained during the reconsideration investigation, the Department determines that Swift Textile, d/b/a/ Swift Galey, Midland, Georgia qualifies as a secondarily-affected firm.

In accordance with Section 246 the Trade Act of 1974 (26 U.S.C. 2813), as amended, the Department herein presents the results of its investigation regarding certification of eligibility to apply for Alternative Trade Adjustment Assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the information obtained in the reconsideration investigation, I determine that workers of Swift Textiles, d/b/a/ Swift Galey, Midland, Georgia, qualify as adversely affected secondary workers under Section 222 of the Trade Act of 1974, as amended. In accordance with the provisions of the Act, I make the following certification:

All workers of Swift Textile, d/b/a Swift Galey, Midland, Georgia who became totally or partially separated from employment on or after September 11, 2005 through two years from the date of this certification, are eligible to apply for adjustment assistance under Section 223 of the Trade Act of 1974, and are eligible to apply for alternative trade adjustment assistance under Section 246 of the Trade Act of 1974.

Signed in Washington, DC this 6th day of December 2006.
Elliott S. Kushner,
Certifying Officer, Division of Trade Adjustment Assistance.

[FR Doc. E6-21107 Filed 12-11-06; 8:45 am]

BILLING CODE 4510-30-P